UNIFIED CARRIER REGISTRATION PLAN

Sunshine Act Meetings

TIME AND DATE: September 28, 2023, 12:00 p.m. to 3:00 p.m., Eastern Time.

PLACE: This meeting will be accessible via conference call and via Zoom Meeting and Screenshare. Any interested person may call (i) 1-929-205-6099 (US Toll) or 1-669-900-6833 (US Toll), Meeting ID: 977 5563 5193, to listen and participate in this meeting. The website to participate via Zoom Meeting and Screenshare is https://kellen.zoom.us/meeting/register/tJMqcuyurT4rE9ci8uT0K9V3WLD2Ly4pTPm5.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed, and the Board will consider adoption.

Ground Rules

➢ Board actions taken only in designated areas on agenda

IV. Approval of Minutes of the July 27 UCR Board Meeting—UCR Board Chair

For Discussion and Possible Board Action

Draft Minutes from the July 27, 2023 UCR Board meeting will be reviewed. The Board will consider action to approve.

V. Report of FMCSA—FMCSA Representative

The Federal Motor Carrier Safety Administration (FMCSA) will provide a report on relevant agency activity.

VI. UCR Penetration Test—Kellen Representative

Kellen's Chief Technology Officer will provide an update and report on relevant activity.

VII. Chief Legal Officer's Report—UCR Chief Legal Officer

The UCR Chief Legal Officer will provide the Board with a status report on his efforts to protect UCR's intellectual property.

VIII. Nominations for the Position of Vice-Chair of the UCR Board—UCR Board Chair

For Discussion and Possible Board Action

The UCR Board Chair will ask for nominations for the position of Vice-Chair of the UCR Board. The position will be voted on at the December 7, 2023, UCR Board meeting. Provided a Vice-Chair is selected at the December 7, Board meeting, that name will be submitted to FMCSA for its consideration and possible action.

IX. Annual Unregistered Broker Letter—UCR Executive Director and Seikosoft

For Discussion and Possible Board Action

The UCR Executive Director and a representative from Seikosoft will lead a discussion on a proposed initiative to send a letter to unregistered brokers each year to improve UCR compliance within the broker population. The Board may consider and approve the cost of sending a letter to all brokers who remain unregistered just prior to the enforcement date each year.

X. Subcommittee Reports

Audit Subcommittee—UCR Audit Subcommittee Chair

A. Discussion of Automatic Annual Renewal of UCR Registration—UCR Audit Subcommittee Chair, UCR Audit Subcommittee Vice-Chair, UCR Executive Director and Seikosoft Representatives

For Discussion and Possible Board Action

The UCR Audit Subcommittee Chair will lead a discussion on the issues involved in the voluntary annual automatic renewal of UCR registrations and options for Seikosoft to design and implement a system that allows for the voluntary annual automatic renewal of UCR registrations using business rules defined by the UCR Audit Subcommittee. The Board may take action to approve such options as may be discussed. The UCR Audit Subcommittee recommends the UCR Board adopt this proposal.

B. Discuss Options To Review and Clean up the Unregistered Motor Carrier UCR Universe in Shadow MCMIS—UCR Audit Subcommittee Chair, UCR Audit Subcommittee Vice-Chair, Seikosoft Representative

For Discussion and Possible Board Action

The UCR Audit Subcommittee Chair will lead a discussion on steps necessary for the NRS and State Auditors to review and clean up the 2022/2023 unregistered motor carriers with no activity in the previous 365 days. The Board may take action to approve such options as may be discussed. The UCR Audit Subcommittee recommends the UCR Board adopt this proposal.

Finance Subcommittee—UCR Finance Subcommittee Chair

2025 Registration Fee Submission—UCR Finance Subcommittee Chair

The UCR Finance Subcommittee Chair will provide an update on the 2025 registration fee recommendation approved at the last Board meeting.

Education and Training Subcommittee—UCR Education and Training Subcommittee Chair

Update on Current and Future Training Initiatives—UCR Education and Training Subcommittee Chair

The UCR Education and Training Subcommittee Chair will provide an update on current and planned future training initiatives.

Industry Advisory Subcommittee—UCR Industry Advisory Subcommittee Chair

Update on Current Initiatives—UCR Industry Advisory Subcommittee Chair

The UCR Industry Advisory Subcommittee Chair will provide an update on current and planned initiatives regarding motor carrier industry concerns.

Enforcement Subcommittee—UCR Enforcement Subcommittee Chair

Update on Current Initiatives—UCR Enforcement Subcommittee Chair

The UCR Enforcement Subcommittee Chair will provide an update on current and planned initiatives.

Dispute Resolution Subcommittee—UCR Dispute Resolution Subcommittee Chair

Update on Current Initiatives—UCR Dispute Resolution Subcommittee Chair

The UCR Dispute Resolution Subcommittee Chair will provide an update on planned initiatives.

XI. Contractor Reports—UCR Board Chair

UCR Executive Director's Report

The UCR Executive Director will provide a report covering his recent activity for the UCR Plan.

DSL Transportation Services, Inc.

DSL Transportation Services, Inc. will report on the latest data from the Focused Anomaly Reviews (FARs) program, discuss motor carrier inspection results, pilot projects and other matters.

Seikosoft

Seikosoft will provide an update on recent/new activity related to the National Registration System (NRS).

UCR Administrator Report (Kellen)

The UCR Chief of Staff will provide a management report covering recent activity for the Depository, Operations, and Communications.

XII. Other Business—UCR Board Chair

The UCR Board Chair will call for any other business, old or new, from the floor.

XIII. Adjournment—UCR Board Chair

The UCR Board Chair will adjourn the meeting.

The agenda will be available no later than 5:00 p.m. Eastern time, September 21, 2023, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2023-21064 Filed 9-22-23; 4:15 pm]

BILLING CODE 4910-YL-P